ENVIRONMENTAL PROTECTION AGENCY

[FRL-6879-9]

Agency Information Collection Activities: Submission for OMB Review; Comment Request, Registration of Fuels and Fuel Additives: Requirements for Manufacturers

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Registration of Fuels and Fuel Additives: Requirements for Manufacturers (40 CFR 79), OMB Control Number 2060-0150 expiration date 12/31/2000. The ICR describes the nature of the information collection and its expected burden and cost; where appropriate, it includes the actual data collection instrument.

DATES: Comments must be submitted on or before November 2, 2000.

ADDRESSES: Send comments, referencing EPA ICR No. 0309.10 and OMB Control No. 2060-0150, to the following addresses: Sandy Farmer, U.S. Environmental Protection Agency, Collection Strategies Division (Mail Code 2822), 1200 Pennsylvania Avenue, N.W., Washington, DC 20460; and to Office of Information and Regulatory Affairs, Office of Management and Budget (OMB), Attention: Desk Officer for EPA, 725 17th Street, N.W., Washington, DC 20503.

FOR FURTHER INFORMATION CONTACT: For a copy of the ICR contact Sandy Farmer at EPA by phone at (202) 260-2740, by E-mail at Farmer.sandy@epamail.epa.gov, or download off the Internet at http://www.epa.gov/icr and refer to EPA ICR No. 0309.10. For technical questions about the ICR contact James W. Caldwell, (202) 564-9303, fax (202) 565-2085, caldwell.jim@epa.gov.

SUPPLEMENTARY INFORMATION: Title: Registration of Fuels and Fuel Additives: Requirements for Manufacturers (40 CFR 79), OMB Control Number 2060-0150, EPA ICR Number 0309.10, expiring 12/31/2000. This is a request for an extension of a currently approved collection.

Abstract: Motor vehicles are the major source of air pollution in most urban areas. The Clean Air Act provides the authority to monitor and regulate motor vehicle fuels, additives, and emissions in order to protect public health. Pursuant to the regulations at 40 CFR 79, manufacturers of gasolines, diesel fuels, and additives for those fuels, are required to have their products registered by the EPA prior to their introduction into commerce. This mandatory collection involves providing certain compositional, emissions, and health-related information. A manufacturer may not sell its fuel or additive until it has been registered. The EPA uses this information to identify fuels and additives whose emissions may pose a health risk and as a basis for regulatory action. Most of the compositional information is confidential due to the competitive nature of the fuel and additive industries.

Registration involves providing (1) a chemical description of the fuel or additive, (2) certain technical and marketing information, and (3) any health-effects information in company files. (The portion of this registration regulation requiring the development of health-effects data is covered by a separate information collection; OMB Control Number 2060-0297, EPA ICR Number 1696.03) Manufacturers are also required to submit periodic reports on production and related information.

An agency may not conduct or sponsor, and a person is not required to respond to a collection of information unless it displays a currently valid OMB control number. The OMB control numbers for EPA's regulations are listed in 40 CFR part 9 and 48 CFR Chapter 15. The Federal Register document required under 5 CFR 1320.8(d), soliciting comments on this collection of information was published on 7-11-00, 65 FR 42689. No comments were received.

Burden Statement: The annual public reporting and record keeping burden for this collection of information is estimated to average 2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Manufacturers of gasolines, diesel fuels, and fuel additives.

Estimated Number of Respondents: 780.

Frequency of Response: On occasion, quarterly, annually.

Estimated Total Annual Hour Burden: 18,500 hours.

Estimated Total Annualized Capital, O&M Cost Burden: $27,600.

Send comments on the Agency's need for this information, the accuracy of the provided burden estimates, and any suggested methods for minimizing respondent burden, including through the use of automated collection techniques to the addresses listed above. Please refer to EPA ICR No. 0309.10 and OMB Control No. 2060-0150 in any correspondence.

Dated: September 28, 2000.
Oscar Morales,
Director, Collection Strategies Division.

[FR Doc. 00-25349 Filed 10-2-00; 8:45 am]

BILLING CODE 6560-50-P